SECURITIES AND EXCHANGE COMMISSION

Submission for OMB Review; Comment Request

Upon Written Request, Copies Available From: Securities and Exchange Commission, Office of Filings and Information Services, Washington, DC 20549.

Extension: Form F-2 OMB Control No. 3235-0257 SEC File No. 270-250

Form 18-K OMB Control No. 3235-0120 SEC File No. 270-108

Notice is hereby given that pursuant to the Paperwork Reduction Act of 1995 (44 U.S.C. 3501 et seq.) the Securities and Exchange Commission (“Commission”) has submitted to the Office of Management and Budget request for extensions of the previously approved collections of information discussed below.

Form F-2 is a registration statement used by foreign issuers to register securities pursuant to the Securities Act of 1933. The information collected is intended to ensure the adequacy of information available to investors in the registration of securities and assures public availability. The information provided is mandatory. Form F-2 is a public document. Form F-2 takes approximately 559 hours per response and is filed by approximately 5 respondents for a total burden of 2,795 hours. It is estimated that 25% of the total burden hours (699 reporting burden hours) is prepared by the company. Also, persons who respond to the collection of information contained in Form F-2 are not required to respond unless the form displays a currently valid control number.

Form 18-K is an annual report form used by foreign governments and political subdivisions with securities listed on a United States exchange. The information to be collected is intended to ensure the adequacy of information available to investors in the registration of securities and assures public availability. The information provided is mandatory. Form 18-K is a public document. Approximately 40 respondents filed Form 18-K at an estimated 8 hours per response for a total annual reporting burden of 320 hours. Also, persons who respond to the collection of information contained in Form 18-K are not required to respond unless the form displays a currently valid control number.

Written comments regarding the above information should be directed to the following persons: (i) Desk Officer for the Securities and Exchange Commission, Office of Information and Regulatory Affairs, Office of Management and Budget, Room 10102, New Executive Office Building, Washington, DC 20503; and (ii) Kenneth A. Fogash, Acting Associate Executive Director/CIO, Office of Information Technology, Securities and Exchange Commission, 450 Fifth Street, NW., Washington, DC 20549. Comments must be submitted to OMB within 30 days of this notice.

Dated: July 25, 2003.
Jill M. Peterson,
Assistant Secretary.

[FR Doc. 03-19493 Filed 7-30-03; 8:45 am]

BILLING CODE 8010-01-P